FEDERAL COMMUNICATIONS COMMISSION

47 CFR Part 73

[DA 06-21; MB Docket No. 05-16; RM-11143, RM-11295]

Radio Broadcasting Services; La Grange, Shallotte, Swansboro, Topsail Beach, and Wrightsville Beach, NC

AGENCY: Federal Communications Commission.

ACTION: Final rule.

SUMMARY: In response to a Notice of Proposed Rule Making, 70 FR 7220 (February 11, 2005), this Report and Order upgrades Channel 279C3, Station WBNU(FM), Shallotte, North Carolina, to Channel 279C2, reallots Channel 279C2 to Wrightsville Beach, North Carolina, and modifies the license of Station WBNU(FM) accordingly. The coordinates for Channel 279C2 at Wrightsville Beach are 33-59-56 NL and 77-54-35 WL, with a site restriction of 25.4 kilometers (15.8 miles) southwest of Wrightsville Beach. The Report and Order also upgrades Channel 229A, Station WBNE(FM, Wrightsville Beach, to Channel 229C3, reallots Channel 229C3 to Topsail Beach and modifies the license of Station WBNE(FM) accordingly. The coordinates for Channel 229C3 at Topsail Beach are 34-25-37 NL and 77-38-33 WL, with a site restriction of 7.0 kilometers (4.3 miles) north of Topsail Beach. In addition, the Report and Order downgrades Channel 280C3, Station WWTB(FM), Topsail Beach, North Carolina, to Channel 281A, reallots Channel 281A to Swansboro, North Carolina, and modifies the license of Station WWTB(FM) accordingly. The coordinates for Channel 281A at Swansboro are 34-42-41 NL and 77-16-07 WL, with a site restriction of 13.9 kilometers (8.7 miles) west of Swansboro. Lastly, the Report and Order upgrades Channel 284C3, Station WZUP(FM), La Grange, North Carolina, to Channel 284C2. The coordinates for Channel 284C2 at LaGrange are 35-07-39 NL and 77-42-59 WL, with a site restriction of 20.9 kilometers (13.0 miles) south of La Grange.

DATES: Effective February 21, 2006.

FOR FURTHER INFORMATION CONTACT: R. Barthen Gorman, Media Bureau, (202) 418-2180.

SUPPLEMENTARY INFORMATION: This is a synopsis of the Commission's Report and Order, MB Docket No. 05-16, adopted January 4, 2006, and released January 6, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

Part 73—RADIO BROADCAST SERVICES

1. The authority citation for Part 73 reads as follows:

Authority: 47 U.S.C. 154, 303, 334, 336.

§ 73.202 [Amended]

2. Section 73.202(b), the Table of FM Allotments under North Carolina, is amended by removing Channel 284C3 and adding Channel 284C2 at La Grange; by removing Channel 279C3 at Shallotte, by adding Swansboro, Channel 281A, by removing Channel 280C3 and adding Channel 229C3 at Topsail Beach and by removing Channel 229A and by adding Channel 279C2 at Wrightsville Beach.

Federal Communications Commission.
John A. Karousos,
Assistant Chief, Audio Division, Media Bureau.

[FR Doc. 06-800 Filed 1-26-06; 8:45 am]

BILLING CODE 6712-01-P